FARM CREDIT ADMINISTRATION

12 CFR Parts 614, 615, and 618

RIN 3052-AB96

Loan Policies and Operations; Funding and Fiscal Affairs, Loan Policies and Operations, and Funding Operations; General Provisions; OFI Lending

AGENCY: Farm Credit Administration (FCA).

ACTION: Advance notice of proposed rulemaking (ANPRM); reopening of comment period.

SUMMARY: We are reopening the comment period on our ANPRM that asks you to comment on the appropriate capital risk weighting of Farm Credit System (System) bank loans to other financing institutions (OFIs), the public availability of the identities of OFIs, cross-district funding of OFIs, and ways to improve System banks' funding of OFIs. We are reopening the comment period on the ANPRM until July 19, 2000, so that interested parties have additional time to provide comments.

DATES: Please send your comments to us on or before July 19, 2000.

ADDRESSES: Send us your comments by electronic mail to “reg-comm@fca.gov” or through the Pending Regulations section of our Web site at “www.fca.gov.” You may also send written comments to Patricia W. DiMuzio, Director, Regulation and Policy Division, Office of Policy and Analysis, Farm Credit Administration, 1501 Farm Credit Drive, McLean, Virginia 22102-5090, or by facsimile transmission to (703) 734-5784. You may review copies of all comments we receive in the Office of Policy and Analysis, Farm Credit Administration.

FOR FURTHER INFORMATION CONTACT:

Dennis K. Carpenter, Senior Policy Analyst, Office of Policy and Analysis, Farm Credit Administration, McLean, VA 22102-5090, (703) 883-4498, TDD (703) 883-4444,

or

Rebecca S. Orlich, Senior Attorney, Office of General Counsel, Farm Credit Administration, McLean, VA 22102-5090, (703) 883-4020, TDD (703) 883-4444.

SUPPLEMENTARY INFORMATION: On April 20, 2000, we published an ANPRM in the Federal Register to seek comment on whether we should revise FCA's regulations to improve and better promote OFI access to System funding. The comment period expired on June 19, 2000. See 65 FR 21151, April 20, 2000. In response to a request, we are reopening the comment period until July 19, 2000, so that commenters will have more time to respond.

Dated: June 20, 2000.
Vivian L. Portis,
Secretary, Farm Credit Administration Board.

[FR Doc. 00-16053 Filed 6-23-00; 8:45 am]

BILLING CODE 6705-01-P